DEPARTMENT OF COMMERCE

National Institute of Standards and Technology

National Construction Safety Team Advisory Committee Meeting

AGENCY: National Institute of Standards and Technology, Department of Commerce.

ACTION: Notice of open meeting.

SUMMARY: The National Construction Safety Team (NCST) Advisory Committee (Committee) will meet on Tuesday, December 10, 2013 from 8:30 a.m. to 5:00 p.m. Eastern time and Wednesday, December 11, 2013, from 8:30 a.m. to 12:30 p.m. Eastern time. The meeting will be open to the public. This meeting was originally scheduled for October 15-16, 2013 and was rescheduled as a result of the government shutdown due to a lapse in appropriations. The primary purpose of this meeting is to update the Committee on the status of the National Institute of Standards and Technology (NIST) Disaster and Failure Studies Program, receive NIST's response to the Committee's 2012 annual report recommendations, update the Committee on the progress of the NIST Technical Investigation of the May 22, 2011 Tornado in Joplin, MO, and gather information for the Committee's 2013 Annual Report to Congress. The agenda may change to accommodate Committee business. The final agenda will be posted on the NIST Web site at http://www.nist.gov/el/disasterstudies/ncst/.

DATES: The NCST Advisory Committee will meet on Tuesday, December 10, 2013 from 8:30 a.m. until 5:00 p.m. Eastern time and Wednesday, December 11, 2013, from 8:30 a.m. to 12:30 p.m. Eastern time.

ADDRESSES: The meeting will be held in Rooms C103-C106, Advanced Measurement Laboratory (AML) Building (215), National Institute of Standards and Technology, 100 Bureau Drive, Gaithersburg, Maryland 20899. Please note admittance instructions under the SUPPLEMENTARY INFORMATION section of this notice.

FOR FURTHER INFORMATION CONTACT: Tina Faecke, Program and Management Analyst, Disaster and Failure Studies Program, Engineering Laboratory, National Institute of Standards and Technology, 100 Bureau Drive, Mail Stop 8604, Gaithersburg, Maryland 20899-8604. Ms. Faecke's email address is tina.faecke@nist.gov and her phone number is (301) 975-5911.

SUPPLEMENTARY INFORMATION: The Committee was established pursuant to Section 11 of the NCST Act (Pub. L. 107-231), codified at 15 U.S.C. 7301 et seq. The Committee is composed of ten members, appointed by the Director of NIST, who were selected for their technical expertise and experience, established records of distinguished professional service, and their knowledge of issues affecting teams established under the NCST Act. The Committee advises the Director of NIST on the functions and composition of Teams established under the NCST Act and on the exercise of authorities enumerated in the NCST Act and reviews the procedures developed to implement the NCST Act and reports issued under section 8 of the NCST Act. Background information on the NCST Act and information on the NCST Advisory Committee is available at http://www.nist.gov/el/disasterstudies/ncst/.

Pursuant to the Federal Advisory Committee Act, as amended, 5 U.S.C. App., notice is hereby given that the NCST Advisory Committee will meet on Tuesday, December 10, 2013, from 8:30 a.m. until 5:00 p.m. Eastern time and on Wednesday, December 11, 2013, from 8:30 a.m. until 12:30 p.m. Eastern time. The meeting will be open to the public.

This meeting was originally scheduled for October 15-16, 2013 and was rescheduled as a result of the government shutdown due to a lapse in appropriations. The primary purpose of this meeting is to update the Committee on the status of the NIST Disaster and Failure Studies Program, receive NIST's response to the Committee's 2012 annual report recommendations, update the Committee on the progress of the NIST Technical Investigation of the May 22, 2011 Tornado in Joplin, MO, and gather information for the Committee's 2013 Annual Report to Congress. The agenda may change to accommodate Committee business. The final agenda will be posted on the NIST Web site at http://www.nist.gov/el/disasterstudies/ncst/.

Individuals and representatives of organizations who would like to offer comments and suggestions related to items on the Committee's agenda for this meeting are invited to request a place on the agenda. On December 10, 2013, approximately fifteen minutes will be reserved near the conclusion of the meeting for public comments, and speaking times will be assigned on a first-come, first-served basis. The amount of time per speaker will be determined by the number of requests received, but is likely to be 5 minutes each. The exact time for public comments will be included in the final agenda that will be posted on the NCST Advisory Committee Web site at http://www.nist.gov/el/disasterstudies/ncst/. Questions from the public will not be considered during this period. All those wishing to speak must submit their request by email to the attention of Ms. Tina Faecke, tina.faecke@nist.gov, by 5:00 p.m. Eastern time, Tuesday, December 3, 2013.

Speakers who wish to expand upon their oral statements, those who had wished to speak but could not be accommodated on the agenda, and those who were unable to attend in person are invited to submit written statements to the National Construction Safety Team Advisory Committee, National Institute of Standards and Technology, 100 Bureau Drive, MS 8604, Gaithersburg, Maryland 20899-8604, via fax at (301) 975-4032, or electronically by email to tina.faecke@nist.gov.

All visitors to the NIST site are required to pre-register to be admitted. Anyone wishing to attend this meeting must register by 5:00 p.m. Eastern time, Tuesday, December 3, 2013, in order to attend. Please submit your full name, email address, and phone number to Tina Faecke. Non-U.S. citizens must also submit their country of citizenship, title, and employer/sponsor. Ms. Faecke's email address is tina.faecke@nist.gov, and her phone number is (301) 975-5911.

Dated: October 31, 2013.
Willie E. May,
Associate Director for Laboratory Programs.

[FR Doc. 2013-26828 Filed 11-7-13; 8:45 am]

BILLING CODE 3510-13-P